NUCLEAR REGULATORY COMMISSION

Advisory Committee on the Medical Uses of Isotopes: Meeting Notice

AGENCY: U.S. Nuclear Regulatory Commission.

ACTION: Notice of Meeting.

SUMMARY: The U.S. Nuclear Regulatory Commission (NRC) will convene a teleconference meeting of the Advisory Committee on the Medical Uses of Isotopes (ACMUI) on August 20, 2014, to discuss the revisions to the ACMUI bylaws. Meeting information, including a copy of the agenda and handouts, will be available at http://www.nrc.gov/reading-rm/doc-collections/acmui/meetings/2014.html. The agenda and handouts may also be obtained by contacting Ms. Sophie Holiday using the information below.

DATES: The teleconference meeting will be held on Wednesday, August 20, 2014, 1:30 p.m. to 3:00 p.m. Eastern Daylight Time (EDT).

Public Participation: Any member of the public who wishes to participate in the teleconference should contact Ms. Holiday using the contact information below.

Contact Information: Sophie Holiday, email: sophie.holiday@nrc.gov, telephone: (301) 415-7865.

Conduct of the Meeting

Dr. Bruce Thomadsen, ACMUI Chairman, will preside over the meeting. Dr. Thomadsen will conduct the meeting in a manner that will facilitate the orderly conduct of business. The following procedures apply to public participation in the meeting:

1. Persons who wish to provide a written statement should submit an electronic copy to Ms. Holiday at the contact information listed above. All submittals must be received by August 15, 2014, three business days prior to the meeting, and must pertain to the topic on the agenda for the meeting.

2. Questions and comments from members of the public will be permitted during the meetings, at the discretion of the Chairman.

3. The draft transcript and meeting summary will be available on ACMUI's Web site http://www.nrc.gov/reading-rm/doc-collections/acmui/meetings/2014.html on or about October 1, 2014.

This meeting will be held in accordance with the Atomic Energy Act of 1954, as amended (primarily Section 161a); the Federal Advisory Committee Act (5 U.S.C. App); and the Commission's regulations in Title 10 of the Code of Federal Regulations, Part 7.

Dated: June 26, 2014.
Andrew L. Bates,
Advisory Committee Management Officer.

[FR Doc. 2014-15575 Filed 7-1-14; 8:45 am]

BILLING CODE 7590-01-P